DEPARTMENT OF HOMELAND SECURITY

Coast Guard

33 CFR Part 165

[Docket No. USCG-2011-0842]

Safety Zones; Annual Firework Displays Within the Captain of the Port, Puget Sound Area of Responsibility

AGENCY: Coast Guard, DHS.

ACTION: Final rule; correction.

SUMMARY: This document corrects a final rule published in the Federal Register on October 4, 2011, for the Safety Zones; Annual Firework Displays Within the Captain of the Port, Puget Sound Area of Responsibility. That document contained an inaccurate Docket Number, USCG-2010-0842. The correct Docket Number is USCG-2011-0842.

DATES: Effective November 16, 2011.

FOR FURTHER INFORMATION CONTACT: If you have questions on this rule, call or email Ensign Anthony P. LaBoy, USCG Sector Puget Sound Waterways Management Division, Coast Guard; telephone (206) 217-6323, email SectorPugetSoundWWM@uscg.mil. If you have questions on viewing the docket, call Renee V. Wright, Program Manager, Docket Operations, telephone (202) 366-9826.

SUPPLEMENTARY INFORMATION:

Correction

The heading of the final rule published in the Federal Register of October 4, 2011, in FR Doc. 2011-25344, on page 61263, contained an incorrect Docket Number, USCG-2010-0842. The correct Docket Number is USCG-2011-0842. To advise the public of this error, we are publishing this notice of correction.

Correction of Publication

Accordingly, the final rule Safety Zones; Annual Firework Displays Within the Captain of the Port, Puget Sound Area of Responsibility published in the Federal Register of October 4, 2011, in FR Doc. 2011-25344, is corrected as follows: On page 61263, in the heading, “Docket No. USCG-2010-0842” is corrected to read “Docket No. USCG-2011-0842.”

Dated: November 9, 2011.
Kathryn A. Sinniger,
Chief, Office of Regulations and Administrative Law United States Coast Guard.

[FR Doc. 2011-29561 Filed 11-15-11; 8:45 am]

BILLING CODE 9110-04-P